DEPARTMENT OF TRANSPORTATION

Maritime Administration

[Docket No. MARAD-2019-0094]

Deepwater Port License Application: Bluewater Texas Terminal LLC; Correction

AGENCY: Maritime Administration, U.S. Department of Transportation.

ACTION: Notice; correction.

SUMMARY: The Maritime Administration (MARAD) and the U.S. Coast Guard (USCG) published a document in the Federal Register of August 7, 2020, concerning Deepwater Port License Application: Bluewater Texas Terminal, LLC; Project Scope Changes; Request for Comments. This document had errors in the “Summary of the Revised Project Description” and “Inshore Components” captions. This notice also seeks public comment regarding the proposed project scope changes. Please note, MARAD and USCG have determined that this notice is sufficient for satisfying National Environmental Policy Act (NEPA) requirements for public scoping and seeking public comment on an agency action.

FOR FURTHER INFORMATION CONTACT: Mr. Roddy Bachman, U.S. Coast Guard, telephone: 202-372-1451, email: Roddy.C.Bachman@uscg.mil, or Ms. Yvette M. Fields, Maritime Administration, telephone: 202-366-0926, email: Yvette.Fields@dot.gov. For questions regarding viewing the Docket, call Docket Operations, telephone: 202-366-9317 or 202-366-9826.

SUPPLEMENTARY INFORMATION:

Corrections

1. In the Federal Register of August 7, 2020, in FR Doc 2020-17327, on page 48071, in the second column, correct the “Summary of the Revised Project Description” caption to read:

Bluewater is proposing to construct, own, and operate a deepwater port terminal in the Gulf of Mexico (GOM) to export domestically produced crude oil. The proposed project involves the design, engineering, construction of a deepwater port, and approximately 56.48 miles of pipeline infrastructure. The Bluewater deepwater port would allow for up to two (2) very large crude carriers (VLCCs) or other crude oil carriers to moor at single point mooring (SPM) buoys and connect with the deepwater port via floating connecting crude oil hoses. During single vessel loading operations, the proposed project is capable of loading rates of up to approximately 80,000 barrels per hour (bph) and during simultaneous vessel loading operations, the proposed project is capable of loading rates of 40,000 bph. The facility is expected to service 16 VLCCs per month.

For the purposes of this application, the proposed Bluewater project is described in three distinguishable segments by locality, to include the onshore components, the inshore components and the offshore components.

Onshore components associated with the proposed Bluewater project are defined as those components on the landward side of the western Redfish Bay Mean High Tide (MHT) line, located in San Patricio and Aransas Counties, Texas. The onshore project components include:

• Approximately 22.20 miles of two (2) new parallel 30-inch-diameter crude oil pipelines extending from a planned Multi-Use Terminal located south of the City of Taft in San Patricio County, Texas. The planned multi-use terminal will consist of multiple inbound and outbound crude oil pipelines. Two of those outbound pipelines compose the proposed pipeline infrastructure that will extend to the inshore pipeline which connects to the proposed Harbor Island operational facility described below.

Inshore components associated with the proposed Bluewater project are defined as those components located between the western Redfish Bay MHT line and the MHT line located at the interface of San Jose Island and the GOM. Inshore project components include:

• Approximately 7.15 miles of two (2) new 30-inch-diameter crude oil pipelines connecting to the onshore facility, an approximately 12-acre operations station and a connection to the offshore pipeline. The onshore pipeline would be located within San Patricio County, Texas and Nueces County, Texas and a proposed operations facility would be located on Harbor Island in Nueces County, Texas. The operations facility located on Harbor Island will cover approximately 12 acres of land and house the necessary infrastructure to support the transport of crude oil through the proposed pipeline infrastructure to the deepwater port for the loading of moored vessels. The facility would consist of pig launchers/receivers, meters and valves, operations building, and a communications facility.

Offshore components associated with the proposed Bluewater project are defined as those components located seaward of the MHT line located at the interface of San Jose Island and the GOM. Offshore project components include:

• Approximately 26.76 miles of two (2) new 30-inch-diameter crude oil pipelines extending from the shoreline crossing at the interface of San Jose Island to the offshore Bluewater deepwater port for crude oil delivery to Single Point Mooring (SPM) buoys.

• Two (2) SPMs in Outer Continental Shelf Matagorda Island Area TX4 lease blocks 698 and 699, approximately 15 nautical miles (17.26 statute miles) off the coast of San Patricio County, Texas in a water depth of approximately 89 feet.

• A catenary anchor leg mooring (CALM) system for each SPM buoy connected to a pipeline end manifold (PLEM) system, mooring hawsers, floating hoses, and sub-marine hoses to allow for the loading of crude oil to vessels moored at the proposed deepwater port. The SPM buoy system will be permanently moored with a symmetrically arranged six-leg anchor dual chain configuration extending to twelve (12) 72-inch-diameter pile anchors installed on the seafloor.

• Each of the proposed SPM buoy systems will consist of inner and outer cylindrical shells subdivided into twelve equal-sized watertight radial compartments. A rotating table will be affixed to the SPM buoy and allow for the connection of moored vessels to the SPM buoy system via mooring hawsers. Two floating hoses equipped with marine break-away couplings will be utilized for the transfer of crude oil from the SPM buoy systems to the moored vessel. Floating hoses will be equipped with strobe lights at 15-foot intervals for detection at night and low-light conditions.

2. In the Federal Register of August 7, 2020, in FR Doc 2020-17327, on page 48071, in the second column, correct the “Inshore Components” caption to read:

On May 30, 2019, Bluewater Texas Terminal, (BWTT) revised the design and layout of the proposed facility located on Harbor Island, in Nueces County, Texas. The following notice provides corrected information regarding the originally submitted design and the revised proposed design with respect to the facility located on Harbor Island.

The originally proposed Harbor Island facility occupied an approximate 19-acre area and included two (2) 181,000-barrel (bbl) crude oil storage tanks and two (2) 181,000 bbl water storage tanks. The tanks served to allow for the flushing of crude oil from the offshore pipeline infrastructure in the event of an emergency or for maintenance purposes.

The correct proposed project scope change and BWTT preferred option design eliminates the originally proposed four (4) storage tanks and pumps from Harbor Island. The revised design still maintains pipeline flushing capabilities. This will be accomplished through the use of previously-planned crude oil storage tanks and a new water storage tank located at the planned onshore Multi-Use Terminal (MUT). Based on this design, the facility on Harbor Island would now occupy an approximate 12-acre area, a reduction of 7 acres of permanent impacts.

The preferred Harbor Island project design would still consist of a number of originally proposed infrastructure components, which are required for the operation of the deepwater port (DWP). These facilities include pig launchers/receivers, meters and valves, an operations building, and a communications facility. The USCG valve (i.e., first on land valve from the proposed DWP) is the same as that proposed in the original design at Harbor Island. The facility located on Harbor Island would be surrounded by a 10-foot-tall storm surge protection levee including a 20-footwide vehicle access road, as originally proposed. Based on this design, the facility on Harbor Island would occupy an approximate 12-acre area. The temporary construction workspace located on Harbor Island remains the same as originally proposed to allow the space necessary for the installation of pipeline infrastructure utilizing horizontal directional drill (HDD) installation methods. The 30-inch diameter pipelines entering and exiting the facility located on Harbor Island are proposed to remain the same and be installed using the construction methodology originally proposed.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or by visiting http://www.regulations.gov.

DATES:

Comments must be received on or before December 21, 2020.

The license application is available for viewing at the Regulations.gov website: http://www.regulations.gov under docket number MARAD-2019-0094.

We encourage you to submit comments electronically to the public docket at http://www.regulations.gov. If you submit your comments electronically, it is not necessary to also submit a hard copy. If you cannot submit material using http://www.regulations.gov, please contact either Mr. Roddy Bachman, USCG or Ms. Yvette M. Fields, MARAD, as listed in the FOR FURTHER INFORMATION CONTACT section of this document. This section provides alternate instructions for submitting written comments. Additionally, if you go to the online docket and sign up for email alerts, you will be notified when comments are posted. Anonymous comments will be accepted. All comments received will be posted without change to http://www.regulations.gov and will include any personal information you have provided. The Federal Docket Management Facility's telephone number is 202-366-9317 or 202-366-9826, the fax number is 202-493-2251.

(Authority: 33 U.S.C. 1501, et seq.; 49 CFR 1.93(h))

Dated: November 10, 2020.
By Order of the Maritime Administrator.
T. Mitchell Hudson, Jr.,
Secretary, Maritime Administration.

[FR Doc. 2020-25237 Filed 11-18-20; 8:45 am]

BILLING CODE 4910-81-P